DEPARTMENT OF AGRICULTURE

Foreign Agricultural Service

Trade Adjustment Assistance for Farmers

AGENCY: Foreign Agricultural Service, USDA.

ACTION: Notice.

The Administrator, Foreign Agricultural Service (FAS), today denied a petition for trade adjustment assistance (TAA) that was filed on December 3, 2003, by the Olive Growers Council of California, Visalia, California.

SUPPLEMENTARY INFORMATION: Upon investigation, the Administrator could not make a determination that increases in imports during the 2003-2004 marketing year contributed importantly to the decline in producer prices.

FOR FURTHER INFORMATION CONTACT: Jean-Louis Pajot, Coordinator, Trade Adjustment Assistance for Farmers, FAS, USDA, (202) 720-2916, e-mail: trade.adjustment@fas.usda.gov.

Dated: December 22, 2003.
A. Ellen Terpstra,
Administrator, Foreign Agricultural Service.

[FR Doc. 04-352 Filed 1-7-04; 8:45 am]

BILLING CODE 3410-10-M